DEPARTMENT OF DEFENSE

GENERAL SERVICES ADMINISTRATION

NATIONAL AERONAUTICS AND SPACE ADMINISTRATION

48 CFR Chapter 1

[Docket FAR 2013-0076, Sequence 2]

Federal Acquisition Regulation; Federal Acquisition Circular 2005-66; Introduction

AGENCY: Department of Defense (DoD), General Services Administration (GSA), and National Aeronautics and Space Administration (NASA).

ACTION: Summary presentation of final and interim rules.

SUMMARY: This document summarizes the Federal Acquisition Regulation (FAR) rules agreed to by the Civilian Agency Acquisition Council and the Defense Acquisition Regulations Council (Councils) in this Federal Acquisition Circular (FAC) 2005-66. A companion document, the Small Entity Compliance Guide (SECG), follows this FAC. The FAC, including the SECG, is available via the Internet at http://www.regulations.gov.

DATES: For effective dates and comment dates see separate documents, which follow.

FOR FURTHER INFORMATION CONTACT: The analyst whose name appears in the table below in relation to each FAR case. Please cite FAC 2005-66 and the specific FAR case numbers. For information pertaining to status or publication schedules, contact the Regulatory Secretariat at 202-501-4755.

List of Rules in FAC 2005-66
Item | Subject | FAR case | Analyst
I | Definition of Contingency Operation (Interim) | 2013-003 | Corrigan.
II | Changes to Time-and-Materials and Labor-Hour Contracts and Orders | 2011-025 | Jackson.
III | Extension of Authority for Use of Simplified Acquisition Procedures for Certain Commercial Items | 2013-007 | Jackson.
IV | Technical Amendments

SUPPLEMENTARY INFORMATION: Summaries for each FAR rule follow. For the actual revisions and/or amendments made by these FAR cases, refer to the specific item numbers and subjects set forth in the documents following these item summaries. FAC 2005-66 amends the FAR as specified below:

Item I—Definition of Contingency Operation (FAR Case 2013-003) (Interim)

This interim rule amends the definition of “contingency operation” in FAR 2.101 to address the statutory change to the definition made by paragraph (b) of section 515 of the National Defense Authorization Act for Fiscal Year 2012 (Pub. L. 112-081). Expanding the definition to include responding to a major disaster or emergency will increase the circumstances under which agencies may raise the micro-purchase and simplified acquisition thresholds. This may increase opportunities for awarding contracts to small entities located at or near a major disaster area or emergency activities.

Item II—Changes to Time-and-Materials and Labor-Hour Contracts and Orders (FAR Case 2011-025)

This rule adopts as final a proposed rule implementing a policy that provides additional guidance to address actions required when raising the ceiling price for a time-and-materials (T&M) or labor-hour (LH) contract or order or otherwise changing the general scope of a T&M or LH contract or order. The rule provides guidance to contracting officers to address this issue for the respective areas of the FAR addressing T&M and LH contracts or orders, such as FAR sections 8.404, 12.207, and 16.601. This rule deals with the administration of T&M and LH contracts and orders and will have no direct effect on contractors. This rule will not affect how many small businesses are awarded this type of contract.

Item III—Extension of Authority for Use of Simplified Acquisition Procedures for Certain Commercial Items (FAR Case 2013-007)

This final rule amends the FAR to implement section 822 of the National Defense Authorization Act (NDAA) for Fiscal Year (FY) 2013. Section 822 extends the authority of the Commercial Item Test Program at FAR subpart 13.5 to January 1, 2015. FAR subpart 13.5 authorizes as a test program, the use of simplified procedures for the acquisition of certain commercial items in amounts greater than the simplified acquisition threshold, but not exceeding $6.5 million ($12 million for acquisitions described in FAR 13.500(e)) including options, if the contracting officer can reasonably expect that offers will include only commercial items. This final rule extends the sunset date of the authority at FAR 13.500(d) from January 1, 2012, to January 1, 2015.

Item IV—Technical Amendments

Editorial changes are made at FAR 5.601, 7.105, 10.002, and 52.229-7.

Dated: February 20, 2013.
Laura Auletta,
Director, Office of Governmentwide Acquisition Policy, Office of Acquisition Policy, Office of Governmentwide Policy.
Dated: February 19, 2013.
Richard Ginman,
Director, Defense Procurement and Acquisition Policy.
Dated: February 20, 2013.
Joseph A. Neurauter,
Senior Procurement Executive/Deputy CAO, Office of Acquisition Policy, U.S. General Services Administration.
Dated: February 19, 2013.
William P. McNally,
Assistant Administrator for Procurement, National Aeronautics and Space Administration.

[FR Doc. 2013-04595 Filed 2-27-13; 8:45 am]

BILLING CODE 6820-EP-P